DEPARTMENT OF LABOR

Office of the Secretary

Submission for OMB Review; Comment Request

April 3, 2001.

The Department of Labor (DOL) has submitted the following public information collection requests (ICRs) to the Office Management and Budget (OMB) for review and approval in accordance with the Paperwork Reduction Act of 1995 (Pub. L. 104-13, 44 U.S.C. Chapter 35). A copy of each individual ICR, with applicable supporting documentation, may be obtained by calling the Department of Labor. To obtain documentation for BLS, ESA, and PWBA contact Marlene Howze ((202) 693-4120 or by email to Howze-Marlene@dol.gov). To obtain documentation for ETA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the function of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic mechanical, or other technological collection techniques or other forms of information technology, e.g., permitting electronic submission of responses.

Type of Review: Extension of a currently approved collection.

Agency: Pension and Welfare Benefits Administration (PWBA).

Title: Participant Directed Individual Account Plans (ERISA section 404(c) Plans.

OMB Number: 1210-0090.

Affected Public: Individuals or households; Business or other for-profit; and Not-for-profit institutions.

Frequency: On occasion.

Number of Respondents: 294,800.

Estimated Time Per Response: 294,800.

Estimated Time Per Response: 30 minutes.

Total Burden Hours: 52,900.

Total Annualized Capital/Startup Costs: $0.

Total Annual Costs (operating/maintaining systems or purchasing) services): $22,126,000.

Description: Section 404(c) of the Employee Retirement Income Security Act of 1974 (ERISA) provides that if a pension plan that provides for individual accounts permits a participant or beneficiary to exercise contol over assets in his account and that participant or beneficiary in fact exercises such control, the participant or beneficiary shall not be deemed to be a fiduciary by such exercise of control, and no person otherwise a fiduciary shall be liable for any loss or breach which results from this exercise of control. The opportunity to exercise control includes the opportunity to obtain sufficient information alternatives. This regulation describes the type and extent of information required to be made available to participants and beneficiaries for this purpose. In the absence of such disclosures, participants might not be able to make informed decisions about the investment of their individual accounts, and persons who are otherwise fiduciaries with respect to these plans would not be afforded relief from the fiduciary responsibility provisions of Title I of ERISA with respect to these transactions.

Ira L. Mills,
Department Clearance Officer.

[FR Doc. 01-9277 Filed 4-13-01; 8:45 am]

BILLING CODE 4510-29-M